DEPARTMENT OF THE INTERIOR

Bureau of Land Management

[LLORB00000.L10200000.PH0000.LX.SS.036H0000; HAG 12-0102]

Southeast Oregon Resource Advisory Council; Meeting

AGENCY: Bureau of Land Management, Interior.

ACTION: Notice of public meeting.

SUMMARY: In accordance with the Federal Land Policy and Management Act and the Federal Advisory Committee Act of 1972, the U.S. Department of the Interior, Bureau of Land Management, the Southeast Oregon Resource Advisory Council (RAC) will meet as indicated below:

DATES: The Southeast Oregon RAC will hold a public meeting Monday, April 2, 2012, from 12 p.m. to 4:30 p.m. and Tuesday, April 3, 2012, from 8:30 a.m. to 12 p.m. at The Gathering Place, 3 N. “F” Street, in Lakeview, Oregon 97630. Public comment is scheduled for 3:15 p.m. on April 2 and 10:30 a.m. on April 3. Unless otherwise approved by the Southeast Oregon RAC Chair, the public comment period will last no longer than 30 minutes, and each speaker may address the RAC for a maximum of 5 minutes. Meeting times and the duration scheduled for public comment periods may be extended or altered when the authorized representative considers it necessary to accommodate necessary business and all who seek to be heard regarding matters before the RAC.

FOR FURTHER INFORMATION CONTACT: Tara Martinak, Public Affairs Specialist, Bureau of Land Management Burns District Office, 28910 Highway 20 West, Hines, Oregon 97738, (541) 573-4519 or email tmartina@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Southeast Oregon RAC consists of 15 members chartered and appointed by the Secretary of the Interior. Their diverse perspectives are represented in commodity, conservation, and general interests. They provide advice to BLM and Forest Service resource managers regarding management plans and proposed resource actions on public land in southeast Oregon. Tentative agenda items for the April 2-3, 2012 meetings include: Updates on agency planning processes to address Sage-grouse conservation measures in land use plans, vegetation management environmental impact statements; the North Steens Transmission Line Environmental Impact Statement and subsequent Documentation of National Environmental Policy Act Adequacy; the Lakeview Resource Area Resource Management Plan amendment and travel management, and a conservation plan for allotments being discussed between the Oregon Cattleman's Association, the U.S. Fish and Wildlife Service, and the BLM. The Southeast Oregon RAC will also welcome new members, hear subcommittee reports, review the RAC's development on questions for analyzing lands with wilderness characteristics, hear a presentation on a travel management proposal in the Chiloquin Ranger District of the Fremont-Winema National Forest, elect a new vice-Chair, and develop agenda items for the next meeting. Any other matters that may reasonably come before the Southeast Oregon RAC may also be addressed.

All meetings are open to the public in their entirety. Information to be distributed to the Southeast Oregon RAC is requested prior to the start of each meeting.

Brendan Cain,
BLM Burns District Manager.

[FR Doc. 2012-5639 Filed 3-7-12; 8:45 am]

BILLING CODE 4310-33-P